DEPARTMENT OF HEALTH AND HUMAN SERVICES

Centers for Medicare & Medicaid Services

42 CFR Part 476

Quality Improvement Organization Review

CFR Correction

In Title 42 of the Code of Federal Regulations, Parts 430 to 481, revised as of October 1, 2014, on page 591, in § 476.80, make the following changes:

1. In paragraphs (a)(1), (a)(2) introductory text (two places), (c)(3)(ii), (d)(1), and (d)(2), remove the phrase “fiscal intermediary or carrier” and add the phrase “Medicare administrative contractor, fiscal intermediary, or carrier” in its place.

2. In the heading for paragraph (e), and in paragraphs (e)(1) and (e)(2), remove the phrase “fiscal intermediary” and add the phrase “Medicare administrative contractor or fiscal intermediary” in its place.

[FR Doc. 2015-20993 Filed 8-24-15; 8:45 am]

BILLING CODE 1505-01-D